DEPARTMENT OF TRANSPORTATION

Federal Aviation Administration

14 CFR Part 39

[Docket No. FAA-2005-22973; Directorate Identifier 2004-NM-67-AD]

RIN 2120-AA64

Airworthiness Directives; Airbus Model A330-200, A330-300, A340-200, and A340-300 Series Airplanes; and A340-541 and A340-642 Airplanes

AGENCY: Federal Aviation Administration (FAA), Department of Transportation (DOT).

ACTION: Notice of proposed rulemaking (NPRM).

SUMMARY: The FAA proposes to adopt a new airworthiness directive (AD) for all Airbus Model A330-200, A330-300, A340-200, and A340-300 series airplanes; and A340-541 and A340-642 airplanes. This proposed AD would require operators to revise the Airworthiness Limitations section of the Instructions for Continued Airworthiness to incorporate new information. This information includes, for all affected airplanes, decreased life limit values for certain components; and for Model A330-200 and -300 series airplanes, new inspections, compliance times, and new repetitive intervals to detect fatigue cracking, accidental damage, or corrosion in certain structures. This proposed AD results from a revision to subsection 9-1 of the Airbus A330 and A340 Maintenance Planning Documents (MPD) for Life Limits/Monitored parts, and subsection 9-2 of the Airbus A330 MPD for Airworthiness Limitations Items. We are proposing this AD to ensure the continued structural integrity of these airplanes.

DATES: We must receive comments on this proposed AD by December 15, 2005.

ADDRESSES: Use one of the following addresses to submit comments on this proposed AD.

• DOT Docket Web site: Go to http://dms.dot.gov and follow the instructions for sending your comments electronically.

• Government-wide rulemaking Web site: Go to http://www.regulations.gov and follow the instructions for sending your comments electronically.

• Mail: Docket Management Facility, U.S. Department of Transportation, 400 Seventh Street SW., Nassif Building, room PL-401, Washington, DC 20590.

• By fax: (202) 493-2251.

• Hand Delivery: Room PL-401 on the plaza level of the Nassif Building, 400 Seventh Street SW., Washington, DC, between 9 a.m. and 5 p.m., Monday through Friday, except Federal holidays.

Contact Airbus, 1 Rond Point Maurice Bellonte, 31707 Blagnac Cedex, France, for service information identified in this proposed AD.

FOR FURTHER INFORMATION CONTACT: Tim Backman, Aerospace Engineer International Branch, ANM-116, FAA, International Branch, Transport Airplane Directorate, 1601 Lind Avenue, SW., Renton, Washington 98055-4056; telephone (425) 227-2797; fax (425) 227-1149.

SUPPLEMENTARY INFORMATION:

Comments Invited

We invite you to submit any relevant written data, views, or arguments regarding this proposed AD. Send your comments to an address listed under ADDRESSES. Include “Docket No. FAA-2005-22973; Directorate Identifier 2004-NM-67-AD” at the beginning of your comments. We specifically invite comments on the overall regulatory, economic, environmental, and energy aspects of the proposed AD. We will consider all comments submitted by the closing date and may amend the proposed AD in light of those comments.

We will post all comments we receive, without change, to http://dms.dot.gov, including any personal information you provide. We will also post a report summarizing each substantive verbal contact with FAA personnel concerning this proposed AD. Using the search function of our docket Web site, anyone can find and read the comments in any of our dockets, including the name of the individual who sent the comment (or signed the comment on behalf of an association, business, labor union, etc.). You can review the DOT's complete Privacy Act Statement in the Federal Register published on April 11, 2000 (65 FR 19477-78), or you can visit http://dms.dot.gov.

Examining the Docket

You can examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the DMS receives them.

Discussion

The Direction Générale de l'Aviation Civile (DGAC), which is the airworthiness authority for France, notified us that an unsafe condition may exist on all Airbus Model A330-200, A330-300, A340-200, and A340-300 series airplanes; and A340-541 and A340-642 airplanes.

The DGAC advises that Airbus A300 Maintenance Planning Document (MPD) subsection 9-2, “Airworthiness Limitations Items,” has been revised to reference Issue 12, dated November 1, 2003, of the Airworthiness Limitations section (ALS) of the Instructions for Continued Airworthiness. Issue 12 results from the completion of fatigue and damage tolerance evaluations and introduces, for Model A330 series airplanes, new inspections, compliance times, and repetitive intervals to detect fatigue cracking, accidental damage, or corrosion in certain structures of the airplane.

The DGAC also advises that the list of life limited/monitored parts given in Section 9-1 of the Airbus A330 and A340 MPDs has been revised. The revision provides mandatory replacement times approved under section 25.571 of the Joint Aviation Requirements and the Federal Aviation Regulations (14 CFR 25.571), and applies to all Airbus Model A330-200, A330-300, A340-200, and A340-300 series airplanes; and A340-541 and A340-642 airplanes. The DGAC advises that certain life limits must be imposed for various components on these airplanes to prevent the onset of fatigue cracking, and that the limits for certain components have decreased in these new revisions.

Incorporating these revisions into the Airworthiness Limitations section of the Instructions for Continued Airworthiness is intended to ensure the continued structural integrity of these airplanes.

Relevant Service Information

Airbus has issued Document AI/SE-M4/95A.0089/97, “A330 Airworthiness Limitation Items” (ALI), Issue 12, dated November 1, 2003, of the Airbus A330 MPD, Section 9-2. The ALI document contains items related to evaluations of fatigue and damage tolerance arising from fatigue-critical and flight-cycle accidental damage, and a requirement to control corrosion. Issue 12 specifies new inspections, compliance times, and repetitive intervals to detect fatigue cracking, accidental damage, or corrosion in certain structures.

Airbus has also issued Section 9-1, “Life Limits/Monitored Parts,” Revision 05, dated April 7, 2005, of the Airbus A330 and A340 MPDs. The MPDs include the airworthiness limits for Airbus Model A330-200, A330-300, A340-200, and A340-300 series airplanes; and A340-541 and A340-642 airplanes. Revision 05 increases the life limits of certain components of the MLG and nose landing gear (NLG) for Model A340-541 and A340-642 airplanes, and decreases the existing life limits for other MLG and NLG components for other Airbus Model A330-200, A330-300, A340-200, and A340-300 series airplanes.

Accomplishing the actions specified in these documents is intended to adequately address the unsafe condition. The DGAC mandated these documents and issued French airworthiness directives F-2004-024, dated February 18, 2004; F-2005-069, dated April 27, 2005; and F-2005-070, dated April 27, 2005; to ensure the continued airworthiness of these airplanes in France.

Explanation of Action Taken by the FAA

In accordance with airworthiness standards requiring “damage tolerance assessments” for transport category airplanes (section 25.1529 of the Federal Aviation Regulations (14 CFR 25.1529), and the Appendices referenced in that section), all products certificated to comply with that section must have Instructions for Continued Airworthiness (or, for some products, maintenance manuals) that include an ALS. That section must set forth:

• Mandatory replacement times for structural components,

• Structural inspection intervals, and

• Related approved structural inspection procedures necessary to show compliance with the damage-tolerance requirements.

Compliance with the terms specified in the ALS is required by sections 43.16 (for persons maintaining products) and 91.403 (for operators) of the Federal Aviation Regulations (14 CFR 43.16 and 91.403).

In order to require compliance with these inspection intervals and life limits, we must engage in rulemaking, namely the issuance of an AD. For products certificated to comply with the referenced part 25 requirements, it is within our authority to issue an AD requiring a revision to the ALS that includes reduced life limits, or new or different structural inspection requirements. These revisions then are mandatory for operators under section 91.403(c) of the Federal Aviation Regulations (14 CFR 91.403), which prohibits operation of an airplane for which airworthiness limitations have been issued unless the inspection intervals specified in those limitations have been complied with.

After that document is revised, as required, and the AD has been fully complied with, the life limit or structural inspection change remains enforceable as a part of the airworthiness limitations. (This is analogous to ADs that require changes to the Limitations Section of the Airplane Flight Manual.)

Requiring a revision of the airworthiness limitations, rather than requiring individual inspections, is advantageous for operators because it allows them to record AD compliance status only once—at the time they make the revision—rather than after every inspection. It also has the advantage of keeping all airworthiness limitations, whether imposed by original certification or by AD, in one place within the operator's maintenance program, thereby reducing the risk of non-compliance because of oversight or confusion.

FAA's Determination and Requirements of the Proposed AD

These airplane models are manufactured in France and are type certificated for operation in the United States under the provisions of section 21.29 of the Federal Aviation Regulations (14 CFR 21.29) and the applicable bilateral airworthiness agreement. Pursuant to this bilateral airworthiness agreement, the DGAC has kept the FAA informed of the situation described above. We have examined the DGAC's findings, evaluated all pertinent information, and determined that we need to issue an AD for products of this type design that are certificated for operation in the United States.

Therefore, we are proposing this AD, which would require operators to revise the ALS of the Instructions for Continued Airworthiness to incorporate new inspections, compliance times, and repetitive intervals to detect fatigue cracking, accidental damage, or corrosion in certain structures.

Costs of Compliance

The following table provides the estimated costs for U.S. operators to comply with this proposed AD.

Estimated Costs
Action | Work hours | Average labor rate per hour | Parts | Cost per airplane | Number of U.S.-registered airplanes | Fleet cost
Revise the ALS | 1 | $65 | None | $65 | 20 | $1,300

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Airbus: Docket No. FAA-2005-22973; Directorate Identifier 2004-NM-67-AD.

Comments Due Date

(a) The Federal Aviation Administration must receive comments on this AD action by December 15, 2005.

Affected ADs

(b) None.

Applicability

(c) This AD applies to all Airbus Model A330-201, -202, -203, -223, and -243 airplanes; A330-301, -321, -322, -323, -341, -342, -343 airplanes; A340-211, -212, and -213 airplanes; A340-311, -312, and -313 airplanes; A340-541 airplanes; and A340-642 airplanes; certificated in any category.

Note 1: This AD requires revisions to certain operator maintenance documents to include new inspections. Compliance with these inspections is required by 14 CFR 91.403(c). For airplanes that have been previously modified, altered, or repaired in the areas addressed by these inspections, the operator may not be able to accomplish the inspections described in the revisions. In this situation, to comply with 14 CFR 91.403(c), the operator must request approval for an alternative method of compliance according to paragraph (h) of this AD. The request should include a description of changes to the required inspections that will ensure the continued damage tolerance of the affected structure. The FAA has provided guidance for this determination in Advisory Circular (AC) 25-1529.

Unsafe Condition

(d) This AD results from a revision to subsection 9-1 of the Airbus A330 and A340 Maintenance Planning Documents (MPD) for Life Limits/Monitored parts, and subsection 9-2 of the Airbus A330 MPD for Airworthiness Limitations Items. We are issuing this AD to ensure the continued structural integrity of these airplanes.

Compliance

(e) You are responsible for having the actions required by this AD performed within the compliance times specified, unless the actions have already been done.

Airworthiness Limitations Revision

(f) Within 3 months after the effective date of this AD, revise the Airworthiness Limitations section (ALS) of the Instructions for Continued Airworthiness by incorporating into the ALS the documents in paragraph (f)(1) and (f)(2) of this AD, as applicable.

(1) Document AI/SE-M4/95A.0089/97, “Airworthiness Limitations Items,” Issue 12, dated November 1, 2003, Section 9-2 of the Airbus A330 Maintenance Planning Document (MPD).

(2) Section 9-1, “Life Limits/Monitored parts,” Revision 05, dated April 7, 2005, of the Airbus A330 and A340 MPDs.

(g) Except as provided by paragraph (h) of this AD: After the actions in paragraph (f) of this AD have been accomplished, no alternative inspections or inspection intervals may be approved for the structural elements specified in the documents listed in paragraph (f) of this AD.

Alternative Methods of Compliance (AMOCs)

(h)(1) The Manager, International Branch, ANM-116, Transport Airplane Directorate, FAA, has the authority to approve AMOCs for this AD, if requested in accordance with the procedures found in 14 CFR 39.19.

(2) Before using any AMOC approved in accordance with § 39.19 on any airplane to which the AMOC applies, notify the appropriate principal inspector in the FAA Flight Standards Certificate Holding District Office.

Related Information

(i) French airworthiness directives F-2004-024, dated February 18, 2004; F-2005-069, dated April 27, 2005; and F-2005-070, dated April 27, 2005; also address the subject of this AD.

Issued in Renton, Washington, on November 7, 2005.
Kalene C. Yanamura,
Acting Manager, Transport Airplane Directorate, Aircraft Certification Service.

[FR Doc. 05-22588 Filed 11-14-05; 8:45 am]

BILLING CODE 4910-13-P